DEPARTMENT OF JUSTICE

Drug Enforcement Administration

[Docket No. DEA-392]

Bulk Manufacturer of Controlled Substances Application: Euticals Inc.

ACTION: Notice of application.

DATES: Registered bulk manufacturers of the affected basic classes, and applicants therefore, may file written comments on or objections to the issuance of the proposed registration on or before December 27, 2019.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on June 27, 2019, Euticals Inc., 2460 W Bennett Street, Springfield, Missouri 65807-1229 applied to be registered as a bulk manufacturer of the following basic classes of controlled substances:

Controlled substance | Drug code | Schedule
Gamma Hydroxybutyric Acid | 2010 | I
Amphetamine | 1100 | II
Lisdexamfetamine | 1205 | II
Methylphenidate | 1724 | II
Phenylacetone | 8501 | II
Methadone | 9250 | II
Methadone intermediate | 9254 | II
Oripavine | 9330 | II
Tapentadol | 9780 | II

The company plans to manufacture the above-listed controlled substances in bulk for distribution to its customers.

Dated: October 18, 2019.
William T. McDermott,
Assistant Administrator.

[FR Doc. 2019-23499 Filed 10-25-19; 8:45 am]

BILLING CODE 4410-09-P